DEPARTMENT OF DEFENSE

Department of the Navy

Meeting of the Chief of Naval Operations Executive Panel

AGENCY: Department of the Navy, DoD.

ACTION: Notice of open meeting.

SUMMARY: The Chief of Naval Operations (CNO) Executive Panel will deliberate on the findings and proposed recommendations of the Resource Sponsorship Subcommittee study. The meeting will consist of discussions regarding the current Navy functional organization and the effectiveness and efficiency of its resulting Program Objective Memorandum (POM) versus other previous and potential future organizational structures.

DATES: The meeting will be held on May 31, 2011, from 1 p.m. to 3 p.m.

ADDRESSES: The meeting will be held in the Boardroom at CNA, 4825 Mark Center Drive, Alexandria, VA 22311-1846.

FOR FURTHER INFORMATION CONTACT: LCDR Don Rauch, CNO Executive Panel, 4825 Mark Center Drive, Alexandria, VA 22311-1846, 703-681-4941.

SUPPLEMENTARY INFORMATION: Individuals or interested groups may submit written statements for consideration by the CNO Executive Panel at any time or in response to the agenda of a scheduled meeting. All requests must be submitted to the Designated Federal Officer at the address detailed below.

If the written statement is in response to the agenda mentioned in this meeting notice then the statement, if it is to be considered by the Panel for this meeting, must be received at least five days prior to the meeting in question.

The Designated Federal Officer will review all timely submissions with the CNO Executive Panel Chairperson, and ensure they are provided to members of the CNO Executive Panel before the meeting that is the subject of this notice.

To contact the Designated Federal Officer, write to Executive Director, CNO Executive Panel (N00K), 4825 Mark Center Drive, 2nd Floor, Alexandria, VA 22311-1846.

Dated: May 9, 2011.
D.J. Werner,
Lieutenant Commander, Office of the Judge Advocate General, U.S. Navy, Federal Register Liaison Officer.

[FR Doc. 2011-11945 Filed 5-13-11; 8:45 am]

BILLING CODE 3810-FF-P